SECURITIES AND EXCHANGE COMMISSION

[OMB Control No. 3235-0376]

Agency Information Collection Activities; Proposed Collection; Comment Request; Extension: Schedule 14D-1F-Tender Offer Statement

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Schedule 14D-1F (17 CFR 240.14d-102) is a form that may be used by any person (the “bidder”) making a cash tender or exchange offer for securities of any issuer (the “target”) incorporated or organized under the laws of Canada or any Canadian province or territory that is a foreign private issuer, where less than 40% of the outstanding class of the target's securities that is the subject of the offer is held by U.S. holders. Schedule 14D-1F is designed to facilitate cross-border transactions in the securities of Canadian issuers. The information required to be filed with the Commission provides security holders with material information regarding the bidder as well as the transaction so that they may make informed investment decisions. We estimate that Schedule 14D-1F takes approximately 3.5 hours per response to prepare and is filed once per year by approximately 2 bidders. We estimate that 100% of the burden is carried out internally by the bidder. Based on our estimates, we calculate a total annual reporting burden of 7 hours ((3.5 hours per response × 100%) × 2 responses per year). Because we estimate that 100% of the burden will be carried internally by the bidder, we estimate that there is no cost burden associated with Schedule 14D-1F.

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by March 13, 2026. There will be a second opportunity to comment on this SEC request following the Federal Register publishing a 30-Day Submission Notice.

Dated: January 7, 2026.
Sherry R. Haywood,
Assistant Secretary.

[FR Doc. 2026-00297 Filed 1-9-26; 8:45 am]

BILLING CODE 8011-01-P